FEDERAL ELECTION COMMISSION

Sunshine Act; Notice of Meeting

AGENCY: Federal Election Commission.

DATE AND TIME: Thursday, February 2, 2012 at 10 a.m.

PLACE: 999 E Street NW., Washington, DC (Ninth Floor).

STATUS: This meeting will be open to the public.

Items To Be Discussed

Correction and Approval of the Minutes for the Meeting of January 19, 2012

Draft Advisory Opinion 2011-24: Louder Solutions, LLC, d/b/a StandLouder.com

Draft Advisory Opinion 2011-27: New Mexico Voices for Children

Draft Advisory Opinion 2011-28: Western Representation PAC

Management and Administrative Matters.

Individuals who plan to attend and require special assistance, such as sign language interpretation or other reasonable accommodations, should contact Shawn Woodhead Werth, Secretary, at (202) 694-1040, at least 72 hours prior to the meeting date.

PERSON TO CONTACT FOR INFORMATION: Judith Ingram, Press Officer, Telephone: (202) 694-1220.

Shawn Woodhead Werth,
Secretary of the Commission.

[FR Doc. 2012-2047 Filed 1-26-12; 4:15 pm]

BILLING CODE 6715-01-P